DEPARTMENT OF TRANSPORTATION

Federal Motor Carrier Safety Administration

[Docket No. FMCSA-2014-0009]

Qualification of Drivers; Exemption Applications; Vision

AGENCY: Federal Motor Carrier Safety Administration (FMCSA), DOT.

ACTION: Notice of denials.

SUMMARY: FMCSA announces its denial of 128 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Elaine M. Papp, Chief, Medical Programs Division, 202-366-4001, U.S. Department of Transportation, FMCSA, 1200 New Jersey Avenue SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 128 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following applicant, Brian K. Coffman, did not have sufficient driving experience over the past 3 years under normal highway operating conditions.

The following 15 applicants had no experience operating a CMV:

Bryant L. Balkcom, Augustus H. Brooks, Francis E. Cannon, Isaac Cuautle, Robert Eggleston, Aaron Findley, Gregory J. Hyer, William D. Issacs, David M. Krause, Steven L. Lane, Nicholas A. Lupo, Arthur E. L. Marcotte, Michael McPartland, Randall T. Petersheim, Vincent J. Townsend

The following 31 applicants did not have 3 years of experience driving a CMV on public highways with their vision deficiencies:

Roy N. Aeschliman, Kwabena Apenteng, Wesley A. Barb, Carl Burks, Corey J. Colombo, Gary D. Crauthers, Demarcus Davis, Eric S. Dillon, Glenn D. Ferrell, David L. Fleming, Michael A. Greer, Carey G. Holland, James J. Kunkel, Edward O. Lemke, Brandon J. Michalko, Kenneth E. Morris, Sr., Moises Perez, Dale V. Petersen, Bryan W. Potratz, Jonathan A. Ramsey, Sr., Parker R. Roan, Jeff Saylor, Gary S. Seniuk, Robert Simpson, Peter G. Svoboda, Steve Szabo, Jason Watson, Donald J. Wilson, James W. Wise, Jr., Willie A. Young, Jr., Abdulkadir M. Yusuf.

The following 12 applicants did not have 3 years of recent experience driving a CMV with the vision deficiency:

Zach Afsher Walter Benefield Arthur Doutt Bill A. Drake Stanfield L. Hunter John Lucas Rick Lunceford Eric K. McCall Ricky A. Schott Roy Taylor C. Pao Thao Curtis Townsend

The following 2 applicants did not have sufficient driving experience during the past 3 years under normal highway operating conditions:

Jason Muhammad, Otis Wright.

The following 4 applicants had their commercial driver's license suspended during the 3-year review period for moving violations. Applicants do not qualify for an exemption with a suspension during the 3-year period:

Jay F. Brooks, Scott D. Goalder, Tony Gregoire, Steven R. Maddox.

The following applicant, Thomas D. Lane, contributed to an accident in which the applicant was operating a commercial motor vehicle.

The following 2 applicants were unable to obtain a statement from an optometrist or ophthalmologist stating that he was able to operate a commercial vehicle from a vision standpoint:

Steven E. Bumbrey Robert Davis

The following 15 applicants were denied for miscellaneous/multiple reasons:

Lucas J. Brickner Barry Bunker Carol D. Cuthbertson Robert L. Dinkins Charles O. Drummond David L. Gillion Dennis E. Groothuis Jose Guzman Joshua A. Hernandez Mehrim Hodzic Robert P. Kelly Rick P. Moreno Timothy Smith John P. Trebesch Richard A. Wheeler

The following 21 applicants met the current federal vision standards. Exemptions are not required for applicants who meet the current regulations for vision:

Jorge E. Aldana Don Amundsen Warren M. Blakeney Nathan Boehm Alexander W. Bryant James C. Honeycutt Kerry Kersey Rommie L. Knight Rennard Lake Manual S. Marquez Jimmy C. Moore, Jr. Vasyl Myniv Ronald L. Olberding Juan A. Perez Kent E. Riegel Harry L. Ross Donnie M. Russell Kenny R. Taylor David M. Terry Timothy W. Trusty Henry L. Washington, Jr.

The following 19 applicants were denied because they will not be driving interstate, interstate commerce, or not required to carry a DOT medical card:

Marco A. Alvarez Tomas Benavidez, Jr. Marlin G. Burley, Jr. Jerome Carbaugh Gareth T. Edwards Richard T. Elijah John A. Frymark Marvin F. Guess Robert Howell, Jr. Richard S. Huzzard Vance L. Johnson Augusto F. Nunez Juan G. Padilla Donald Reeves Christopher M. Reynolds Randall W. Schroeder Martin Skovish, Sr. Terrence M. Thomas Brian Weiner

Finally, the following 5 applicants perform transportation for the federal government, state, or any political sub-division of the state.

Johonn Finley Jeffery O. Galtney Jimmy D. Renfroe William C. Riddick Timothy A. Wright

Issued on: July 29, 2014.
Larry W. Minor,
Associate Administrator for Policy.

[FR Doc. 2014-18648 Filed 8-5-14; 8:45 am]

BILLING CODE 4910-EX-P